Proclamation 8204 of November 15, 2007

Thanksgiving Day, 2007

By the President of the United States of America

A Proclamation

Americans are a grateful people, ever mindful of the many ways we have been blessed. On Thanksgiving Day, we lift our hearts in gratitude for the freedoms we enjoy, the people we love, and the gifts of our prosperous land.

Our country was founded by men and women who realized their dependence on God and were humbled by His providence and grace. The early explorers and settlers who arrived in this land gave thanks for God's protection and for the extraordinary natural abundance they found. Since the first National Day of Thanksgiving was proclaimed by President George Washington, Americans have come together to offer thanks for our many blessings. We recall the great privilege it is to live in a land where freedom is the right of every person and where all can pursue their dreams. We express our deep appreciation for the sacrifices of the honorable men and women in uniform who defend liberty. As they work to advance the cause of freedom, our Nation keeps these brave individuals and their families in our thoughts, and we pray for their safe return.

While Thanksgiving is a time to gather in a spirit of gratitude with family, friends, and neighbors, it is also an opportunity to serve others and to share our blessings with those in need. By answering the universal call to love a neighbor as we want to be loved ourselves, we make our Nation a more hopeful and caring place.

This Thanksgiving, may we reflect upon the past year with gratefulness and look toward the future with hope. Let us give thanks for all we have been given and ask God to continue to bless our families and our Nation.

NOW, THEREFORE, I, GEORGE W. BUSH, President of the United States of America, by virtue of the authority vested in me by the Constitution and laws of the United States, do hereby proclaim Thursday, November 22, 2007, as a National Day of Thanksgiving. I encourage all Americans to gather together in their homes and places of worship with family, friends, and loved ones to reinforce the ties that bind us and give thanks for the freedoms and many blessings we enjoy.

IN WITNESS WHEREOF, I have hereunto set my hand this fifteenth day of November, in the year of our Lord two thousand seven, and of the Independence of the United States of America the two hundred and thirty-second.

[FR Doc. 07-5769

Filed 11-16-07; 9:54 am]

Billing code 3195-01-P